SMALL BUSINESS ADMINISTRATION

Advisory Committee on Veterans Business Affairs; Public Meeting

The U.S. Small Business Administration (SBA), pursuant to the Veterans Entrepreneurship and Small Business Development Act of 1999 (Pub. L. 106-50), SBA Advisory Committee on Veterans Business Affairs will host a public federal meeting on Tuesday, September 18, 2007, starting at 9 a.m. until 5 p.m. The meeting will be held at the U.S. Small Business Administration, 409 3rd Street, SW., Eisenhower Conference Room, 7th Floor, Washington, DC 20416.

The purpose of the meeting is to discuss issues pertaining to SBA's services, programs and outreach for veterans and service-disabled veterans.

Anyone wishing to attend must contact Cheryl Clark, Program Liaison, Office of Veterans Business Development at (202) 205-6773 or send an e-mail to cheryl.clark@sba.gov.

Matthew Teague,
Committee Management Officer.

[FR Doc. E7-17089 Filed 8-28-07; 8:45 am]

BILLING CODE 8025-01-P